DEPARTMENT OF ENERGY

Federal Energy Regulatory Commission

[Docket Nos. CP20-50-000; CP20-51-000]

Tennessee Gas Pipeline Company, LLC and Southern Natural Gas Company, LLC; Notice of Schedule for Environmental Review of the Evangeline Pass Expansion Project

On February 7, 2020, Tennessee Gas Pipeline Company, LLC (Tennessee) and Southern Natural Gas Company, LLC (SNG) filed applications in Docket Nos. CP20-50-000 and CP20-51-000, respectively, requesting a Certificate of Public Convenience and Necessity pursuant to Section 7(c) of the Natural Gas Act to construct and operate certain natural gas pipeline facilities in Louisiana and Mississippi. SNG is also requesting authorization under Section 7(b) of the Natural Gas Act to abandon by lease the new capacity to Tennessee. The proposed projects, collectively known as the Evangeline Pass Expansion Project (Project), would provide up to 1,100 million standard cubic feet of natural gas per day to the recently approved Venture Global Gator Express Pipeline interconnect for feed gas for the Plaquemines Liquified Natural Gas Terminal in Plaquemines Parish, Louisiana.

On February 21, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 27, 2020

90-day Federal Authorization Decision Deadline—October 26, 2020

If a schedule change becomes necessary, additional notice will be provided so that the relevant agencies are kept informed of the Project's progress.

Project Description

Tennessee proposes to construct and operate two 36-inch-diameter looping ¹ pipeline segments, totaling 13 miles, in St. Bernard and Plaquemines Parishes, Louisiana and a new 23,470 horsepower compressor station in St. Bernard Parish. In addition, Tennessee would replace certain facilities including a like-for-like replacement of two 10,410 horsepower units at its existing Compressor Station 527 located in Plaquemines Parish. SNG proposes to construct a new 22,220 horsepower compressor station in Clarke County, Mississippi, and three new meter stations in Clarke and Smith Counties, Mississippi and St. Bernard Parish, Louisiana. Additionally, Tennessee and SNG propose to construct, modify, or replace certain system auxiliary and appurtenant facilities under sections 2.55(a) and 2.55(b) of the Commission's regulations.²

¹ A pipeline loop is a segment of pipe constructed parallel to an existing pipeline to increase capacity.

² SNG is proposing to construct or modify auxiliary facilities pursuant to section 2.55(a) of the Commission's regulations in these additional counties and parishes: Jasper, Simpson, Jefferson Davis, Lawrence, and Walthall Counties, Mississippi and Washington, St. Tammany, and Orleans Parishes, Louisiana.

Background

On March 20, 2020, the Commission issued a Notice of Intent to Prepare an Environmental Assessment for the Proposed Evangeline Pass Expansion Project and Request for Comments on Environmental Issues (NOI). The NOI was sent to affected landowners; federal, state, and local government agencies; elected officials; environmental and public interest groups; Native American tribes; other interested parties; and local libraries and newspapers. In response to the NOI, the Commission received comments from the Teamsters National Pipeline Labor Management Cooperation Trust in support of the Project. No additional comments have been received to date. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-50 or CP20-51), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 3, 2020.
Kimberly D. Bose,
Secretary.

[FR Doc. 2020-07491 Filed 4-8-20; 8:45 am]

BILLING CODE 6717-01-P